DEPARTMENT OF DEFENSE

Department of the Army; Army Corps of Engineers

Notice of Solicitation of Applications for Stakeholder Representative Members of the Missouri River Recovery Implementation Committee

AGENCY: Department of the Army, U.S. Army Corps of Engineers, DoD.

ACTION: Solicitation of applications.

SUMMARY: The Commander of the Northwestern Division of the U.S. Army Corps of Engineers (Corps) is soliciting applications for stakeholder representative membership on the Missouri River Recovery Implementation Committee (MRRIC). Members are sought to participate on a committee to represent various categories of interests within the Missouri River basin. The MRRIC is being formed to advise the Corps on a study of the Missouri River and its tributaries and to provide guidance to the Corps with respect to the Missouri River recovery and mitigation activities currently underway. The Corps is required to establish the MRRIC by the U.S. Congress through the Water Resources Development Act of 2007 (WRDA), Section 5018.

DATES: The agency must receive completed applications no later than August 22, 2008.

ADDRESSES: Mail completed applications to U.S. Army Corps of Engineers, Northwestern Division (Attn: MRRIC), 1616 Capitol Avenue, Suite 365, Omaha, NE 68102-4909 or e-mail completed applications to Missouri.Water.Management@nwd02.usace.army.mil. Please put “MRRIC” in the subject line.

FOR FURTHER INFORMATION CONTACT: Mary S. Roth, 402-996-3852.

SUPPLEMENTARY INFORMATION: The establishment of the MRRIC is in the public interest and will provide support to the Corps in performing its duties and responsibilities under the Endangered Species Act, 16 U.S.C. 1531 et seq.; Sec. 601(a) of the Water Resources Development Act (WRDA) of 1986, Public Law 99-662; Sec. 334(a) of WRDA 1999, Public Law 106-53, and Sec. 5018 of WRDA 2007, Public Law 110-114. The Federal Advisory Committee Act, 5 U.S.C. App. 2, does not apply to the MRRIC.

A Charter for the MRRIC has been developed and should be reviewed prior to applying for a stakeholder representative membership position on the Committee. The Charter and application forms are available electronically at http://www.moriverrecovery.org/mrrp/f?p=136:3. The first meeting of MRRIC is anticipated to be October 1, 2008.

Purpose and Scope of the Committee. The duties of MRRIC cover two areas:

1. The Committee will provide guidance to the Corps, and affected Federal agencies, State agencies, or Native American Indian Tribes on a study of the Missouri River and its tributaries to determine the actions required to mitigate losses of aquatic and terrestrial habitat, to recover federally listed species protected under the Endangered Species Act, and to restore the river's ecosystem to prevent further declines among other native species. This study is identified in Section 5018(a) of the WRDA. It will result in a single, comprehensive plan to guide the implementation of mitigation, recovery, and restoration activities in the Missouri River Basin. This plan is referred to as the Missouri River Ecosystem Restoration Plan (MRERP). For more information about the MRERP go to http://www.moriverrecovery.org/mrrp/f?p=136:11.

2. The MRRIC will also provide guidance to the Corps with respect to the Missouri River recovery and mitigation plan currently in existence, including recommendations relating to changes to the implementation strategy from the use of adaptive management; coordination of the development of consistent policies, strategies, plans, programs, projects, activities, and priorities for the Missouri River recovery and mitigation plan. Information about the Missouri River Recovery Program is available at http://www.moriverrecovery.org/mrrp/f?p=136:1.

3. Other duties of MRRIC include exchange of information regarding programs, projects, and activities of the agencies and entities represented on the Committee to promote the goals of the Missouri River recovery and mitigation plan; establishment of such working groups as the Committee determines to be necessary to assist in carrying out the duties of the Committee, including duties relating to public policy and scientific issues; facilitating the resolution of interagency and intergovernmental conflicts between entities represented on the Committee associated with the Missouri River recovery and mitigation plan; coordination of scientific and other research associated with the Missouri River recovery and mitigation plan; and annual preparation of a work plan and associated budget requests.

Administrative Support. To the extent authorized by law and subject to the availability of appropriations, the Corps will provide funding and administrative support for the Committee.

Committee Membership. Federal agencies with programs affecting the Missouri River may be members of the MRRIC through a separate process with the Corps. States and Federally recognized Native American Indian tribes, as described in the Charter, are eligible for Committee membership through an appointment process. Interested State and Tribal government representatives should contact the Corps for information about the appointment process.

In accordance with the Charter for the MRRIC, stakeholder membership is limited to 28 people, with each member having an alternate. Members and alternates must be able to demonstrate that they meet the definition of “stakeholder” found in the Charter of the MRRIC. Stakeholder members and alternates must represent an interest category listed below, with a maximum of two members and two alternates representing any one category:

a. Navigation;

b. Irrigation;

c. Flood Control;

d. Fish and Wildlife;

e. Recreation;

f. Water Quality;

g. Water Supply;

h. Agriculture;

i. Conservation Districts;

j. Waterways Industries;

k. Major Tributaries;

l. Thermal Power;

m. Hydropower;

n. At Large/Other Interests (e.g., cultural and historic preservation);

o. Local Government; and

p. Environmental/Conservation Organizations.

Terms of stakeholder representative members of the MRRIC are three years. There is no limit to the number of terms a member may serve.

Members and alternates of the Committee shall not receive any compensation for carrying out the duties of the MRRIC. Travel expenses incurred by members of the Committee shall not be reimbursed by the Federal Government.

Application for Stakeholder Membership. Persons who believe that they are or will be affected by the Missouri River recovery and mitigation activities and are not employees of federal agencies, tribes, or state agencies, may apply for stakeholder membership on the MRRIC. Applications for stakeholder membership may be obtained electronically at http://www.moriverrecovery.org. Completed applications may be emailed or mailed to the location listed (see ADDRESSES). In order to be considered, each application must include:

1. The name of the applicant and the primary stakeholder interest category that person wishes to represent;

2. A written statement describing how the applicant meets the criteria for membership (described below) and how their contributions will fulfill the roles and responsibilities of MRRIC;

3. Evidence that demonstrates that the applicant represents an interest in the Missouri River basin;

4. In the interest of transparency and openness, the applicant must disclose any affiliations with the involved federal agencies listed below such as recent or current consulting contracts, current employment contracts, or familial relations to any current agency staff or appointees.

• U.S. Army Corps of Engineers.

• U.S. Fish and Wildlife Service.

• U.S. Bureau of Reclamation.

• National Park Service.

• U.S. Geological Survey.

• U.S. Bureau of Indian Affairs.

• U.S. Environmental Protection Agency.

• Western Area Power Administration.

• U.S. Forest Service.

• Federal Highway Administration.

• Maritime Administration.

• National Oceanic and Atmospheric Administration.

• Natural Resources Conservation Service.

• U.S. Institute for Environmental Conflict Resolution.

• U.S. Department of Interior.

• U.S. Department of Commerce.

• U.S. Department of Agriculture.

• U.S. Department of Energy.

• U.S. Department of Transportation.

To be considered, the application must be complete and received by the close of business on August 22, 2008, at the location indicated (see ADDRESSES). Full consideration will be given to all complete applications received by the specified due date.

Persons wishing to apply as alternates are strongly encouraged to coordinate with other individuals applying for membership. Where possible, alternates should apply with the individual seeking membership in an interest area. Alternates must apply in the same manner as stakeholder members and should include a recommendation from a member applicant.

Application Review Process. Committee stakeholder applications will be forwarded to the MRRIC Planning Group, which assisted in the development of the Charter. The MRRIC Planning Group will provide membership recommendations to the Corps. The Corps is responsible for appointing stakeholder members. The MRRIC Planning Group and the Corps will consider applications using the following criteria:

• Ability to commit the time required.

• Commitment to make a good faith (as defined in the Charter) effort to seek balanced solutions that address multiple interests and concerns.

• Agreement to support and adhere to the approved MRRIC Charter and Operating Procedures to be adopted by the Committee.

• Demonstration of a formal designation or endorsement by an organization, local government, or constituency as its preferred representative.

• Demonstration of an established communication network to keep constituents informed and efficiently seek their input when needed.

• Ability to contribute to the overall balance of representation on MRRIC.

All applicants will be notified in writing as to the final decision about their application.

Certification. I hereby certify that the establishment of the MRRIC is necessary and in the public interest in connection with the performance of duties imposed on the Corps by the Endangered Species Act and other statutes.

Dated: July 9, 2008.
Lawrence J. Cieslik,
Deputy Director, Programs—Missouri River, Northwestern Division, U.S. Army Corps of Engineers.

[FR Doc. E8-16455 Filed 7-17-08; 8:45 am]

BILLING CODE 3710-62-P